DEPARTMENT OF TRANSPORTATION

Federal Aviation Administration

[Docket No. FAA-2023-0289]

Agency Information Collection Activities: Requests for Comments; Clearance of a Renewed Approval of Information Collection: Alternative Pilot Physical Examination and Education Requirements (BasicMed)

AGENCY: Federal Aviation Administration (FAA), DOT.

ACTION: Notice and request for comments.

SUMMARY: In accordance with the Paperwork Reduction Act of 1995, FAA invites public comments about our intention to request Office of Management and Budget (OMB) approval to renew an information collection. The Federal Aviation Administration Extension, Safety, and Security Act of 2016 (FESSA) was enacted on July 15, 2016. Section 2307 of FESSA, Medical Certification of Certain Small Aircraft Pilots, directed the FAA to “issue or revise regulations to ensure that an individual may operate as pilot in command of a covered aircraft” without having to undergo the medical certification process prescribed by FAA regulations if the pilot and aircraft meet certain prescribed conditions as outlined in FESSA. This collection enables those eligible airmen to establish their eligibility with the FAA.

DATES: Written comments should be submitted by April 10, 2023.

ADDRESSES: Please send written comments:

By Electronic Docket: www.regulations.gov (Enter docket number into search field).

By mail: Christopher Morris, AFS-850, 800 Independence Ave. SW, Washington, DC 20591.

By email: chris.morris@faa.gov.

FOR FURTHER INFORMATION CONTACT: Brad Zeigler by email at: bradley.c.zeigler@faa.gov; phone: 202-267-9601.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0770.

Title: Alternative Pilot Physical Examination and Education Requirements (BasicMed).

Form Numbers: FAA forms 8700-2 and 8700-3.

Type of Review: Renewal.

Background: The FAA will use this information to determine that individual pilots have met the requirements of section 2307 of Public Law 114-190. It is important for the FAA to know this information as the vast majority of pilots conducting operations described in section 2307 of Public Law 114-190 must either hold a valid medical certificate or be conducting operations using the requirements of section 2307 as an alternative to holding a medical certificate.

The FAA published a final rule, Alternative Pilot Physical Examination and Education Requirements, to implement the provisions of section 2307, on January 11, 2017.

Respondents: Approximately 50,000 individuals.

Frequency: Course: Once every two years; medical exam: once every four years.

Estimated Average Burden per Response: 21 minutes.

Estimated Total Annual Burden: 17,500 hours.

Issued in Washington, DC, on February 1, 2023.
D.C. Morris,
Project Manager, Flight Standards Service, General Aviation and Commercial Division.

[FR Doc. 2023-02511 Filed 2-6-23; 8:45 am]

BILLING CODE 4910-13-P